DEPARTMENT OF THE TREASURY

Departmental Offices: Proposed Collections; Comment Requests

ACTION: Notice and request for comments.

SUMMARY: The Department of the Treasury, as part of its continuing effort to reduce paperwork burdens, invites the general public and other Federal agencies to comment on an information collection that is due for revision approval by the Office of Management and Budget. The Office of Program Services within the Department of the Treasury is soliciting comments concerning Treasury International Capital Form S, Purchases and Sales of Long-term Securities by Foreigners.

DATES: Written comments should be received on or before August 14, 2000.

ADDRESSES: Direct all written comments to Dwight Wolkow, Administrator, International Portfolio Investment Data Systems, Department of the Treasury, Room 5205 MT, 1500 Pennsylvania Avenue NW, Washington, DC 20220.

FOR FURTHER INFORMATION CONTACT: Copies of the proposesd revised form and instructions are available at the Related Links section of Treasury's TIC Capital Movements website: http://www.ustreas.gov/tic/. Requests for additional information should be directed to Dwight Wolkow, Administrator, International Portfolio Investment Data Systems, Department of the Treasury, Room 5205 MT, 1500 Pennsylvania Avenue NW, Washington, DC 20220, phone (202) 622-1276, FAX (202) 622-7448.

SUPPLEMENTARY INFORMATION:

Title: Treasury International Capital Form S, Purchases and Sales of Long-term Securities by Foreigners.

OMB Control Number: 1505-0001.

Abstract: Form S is part of the Treasury International Caiptal (TIC) reporting system, which is required by law (22 U.S.C. 286f; 22 U.S.C. 3103; E.O. 10033; 31 CFR part 128), and is designed to collect timely information on international portfolio capital movements. Form S is a monthly report used to cover transactions in long-term marketable securities undertaken directly with foreigners by banks, other depositiory institutions, brokers, dealers underwriting groups and other individuals and institutions. This information is necessary for compiling the U.S. balance of payments accounts, for calculating the U.S. international investment position, and for formulating U.S. international financial and monetary policies.

Current Actions: The exemption level for reporting will be raised from $2 million to $50 million in either gross purchases or gross sales during a month. The geographic detail will increase slightly by adding lines for Luxembourg, the combined Channel Islands & Isle of Man, New Zealand, the Caribbean region, and the European Central Bank. The British West Indies line will be replaced with Cayman Islands line. The form will be redesigned so it will be available for downloading from the TIC web site. These changes will be effective as of January 31, 2001.

Type of Review: Revision of a currently approved collection.

Affected Public: Business or other for-profit organizations.

Form S (1505-0001.)

Estimated Number of Respondents: 240.

Estimated Average Time per Respondent: 5 hours per respondent per respondent per filing.

Estimated Total Annual Burden Hours: 14,400 hours, based on 12 reporting periods per year.

Request for Comments

Comments submitted in response to this notice will be summarized and/or included in the requests for OMB approval. All comments will become a matter of public record. The public is invited to submit written comments concerning: whether Form S is necessary for the proper performanace of the functions of the Office, including whether the information collected has practical uses; the accuracy of the above burden estimates; ways to enhance the quality, usefulness, and clarity of the information to be collected; ways to minimize the reporting and/or record keeping burdens on respondents, including the use of information technologies to automate the collection of the data; and estimates of capital or startup costs of operation, maintenance, and purchases of services to provide information.

Dwight Wolkow,
Administrator, International Portfolio Investment System

[FR Doc. 00-15063 Filed 6-14-00; 8:45 am]

BILLING CODE 4810-25-M